DEPARTMENT OF THE INTERIOR

Geological Survey

USGS-CCSP Committee for Synthesis and Assessment Product 3.4: Abrupt Climate Change

AGENCY: U.S. Geological Survey.

Committee Name: USGS-CCSP Committee for Synthesis and Assessment Product 3.4: Abrupt Climate Change.

ACTION: Notice of Meeting.

SUMMARY: The USGS-CCSP Committee for Synthesis and Assessment Product 3.4 (SAP 3.4): Abrupt Climate Change, will meet at the Memorial Union Building, Oregon State University in Corvallis, Oregon on June 19, 2008 between 8:30 a.m. and 3 p.m. Pacific Daylight Time.

Agenda: The goal of the meeting is to discuss the comments received during the public comment period for SAP 3.4, and to propose responses to those comments. The meeting is open to the public during the times listed below. Pre-registration is required to attend. Contact the Designated Federal Officer (DFO) at the address below by June 13, 2008 to pre-register and to receive a copy of the meeting agenda. Public involvement with the meeting is encouraged. Prepared statements may be presented orally to the Committee between 8:30 a.m. and 9 a.m. Public statements will be limited to 3 minutes per person. For scheduling reasons, intent to make a public statement must be established at the time of pre-registration. A written copy of the oral statement must be left with the Committee's DFO at the meeting as a matter of public record. Open discussions will accompany each formal session of the meeting. Short public comments/questions will be allowed if time permits. Seating will be available on a first come, first served basis. Please check the SAP 3.4 Web page at http://www.usgs.gov/global_change/sap_3.4/default.asp for any last minute changes to the meeting time, date, location or agenda.

Meeting Dates and Time: Thursday June 19, 2008: 8:30 a.m.-3 p.m. Pacific Daylight Time.

Meeting Address: Memorial Union Building (Council Room), Oregon State University, 2501 SW Jefferson Way, Corvallis, Oregon 97331, (541) 737-2650.

For Further Information and to Pre-Register Contact: John McGeehin (DFO), U.S. Geological Survey, 12201 Sunrise Valley Drive, M.S. 926A, Reston, VA 20192, (703) 648-5349, mcgeehin@usgs.gov.

Suzette M. Kimball,
Associate Director for Geology, U.S. Geological Survey.

[FR Doc. E8-12379 Filed 6-2-08; 8:45 am]

BILLING CODE 4311-AM-P